DEPARTMENT OF STATE

[Public Notice: 6539]

30-Day Notice of Proposed Information Collection: Request for Commodity Jurisdiction (CJ) Determination; OMB Control Number 1405-0163

ACTION: Notice of request for public comment and submission to OMB of proposed collection of information.

SUMMARY: The Department of State has submitted the following information collection to the Office of Management and Budget (OMB) for approval in accordance with the Paperwork Reduction Act of 1995.

Title of Information Collection: Request for Commodity Jurisdiction (CJ) Determination.

OMB Control Number: 1405-0163.

Type of Request: Extension of currently approved collection.

Originating Office: Bureau of Political Military Affairs, Directorate of Defense Trade Controls, PM/DDTC.

Form Number: None.

Respondents: Business organizations.

Estimated Number of Respondents: 425 (total).

Estimated Number of Responses: 465 (per year).

Average Hours per Response: 10 hours.

Total Estimated Burden: 4,650 hours (per year).

Frequency: On Occasion.

Obligation to Respond: Voluntary.

DATES: Submit comments to the Office of Management and Budget (OMB) for up to 30 days from March 23, 2009.

ADDRESSES: Direct comments and questions to Katherine Astrich, the Department of State Desk Officer in the Office of Information and Regulatory Affairs at the Office of Management and Budget (OMB), who may be reached at 202-395-4718. You may submit comments by any of the following methods:

E-mail: Kastrich@omb.eop.gov. You must include the information collection title, and OMB control number in the subject line of your message.

Mail (paper, disk, or CD-ROM submissions): Office of Information and Regulatory Affairs, Office of Management and Budge, 725 17th Street, NW., Washington, DC 20503.

Fax: 202-395-6974

You must include the information collection title in the subject line of your message/letter.

FOR FURTHER INFORMATION CONTACT: You may obtain additional information of the proposed information collection and supporting documents from Mary F. Sweeney, PM/DDTC, SA-1, 12th Floor, Directorate of Defense Trade Controls, Bureau of Political Military Affairs, U.S. Department of State, Washington, DC 20522-0112, who may be reached via phone at (202) 663-2865, or via e-mail at sweeneymf@state.gov.

SUPPLEMENTARY INFORMATION: We are soliciting public comments to permit the Department to:

Evaluate whether the proposed collection of information is necessary for the proper performance of our functions.

Evaluate the accuracy of our estimate of the burden of the proposed collection, including the validity of the methodology and assumptions used.

Enhance the quality, utility, and clarity of the information to be collected.

Minimize the reporting burden on those who are to respond, including the use of automated collection techniques or other forms of technology.

Abstract of proposed collection: The information will be used to evaluate whether or not a particular defense article or defense service is covered by the U.S. Munitions List; to change the U.S. Munitions List category designation; to remove a defense article from the U.S. Munitions List; or to reconsider a previous commodity jurisdiction determination.

Methodology: This information collection is an exchange of letters and may be sent to the Directorate of Defense Controls via mail.

Dated: March 17, 2009.
Robert S. Kovac,
Acting Deputy Assistant, Secretary for Defense Trade, Bureau of Political-Military Affairs, Department of State.

[FR Doc. E9-6318 Filed 3-20-09; 8:45 am]

BILLING CODE 4710-25-P